DEPARTMENT OF TRANSPORTATION

Research and Special Programs Administration

International Standards on the Transport of Radioactive Materials; Conference

AGENCY: Research and Special Programs Administration (RSPA), Department of Transportation.

ACTION: Notice of international conference.

SUMMARY: This notice is to advise interested persons that the International Atomic Energy Agency (IAEA), International Maritime Organization, and the Universal Postal Union are co-sponsoring an international conference on the safe transport of radioactive materials. The conference will take place at the Austria Centre, Vienna, Austria from July 7 through July 11, 2003. The objective of the conference is to exchange information on issues related to the safe transport of radioactive material and to formulate recommendations regarding further international co-operation in this area.

FOR FURTHER INFORMATION CONTACT: Richard Boyle, Radioactive Materials Branch, Office of Hazardous Materials Safety, Department of Transportation, Washington, DC 20590; Phone: (202) 366-2993, Facsimile: (202) 366-3753, email: rick.boyle@rspa.dot.gov.

SUPPLEMENTARY INFORMATION: The conference is directed to a broad spectrum of professionals dealing with the safe transport of radioactive material. The preliminary agenda includes topical sessions on: adequacy and effectiveness of the international transport regulations; effectiveness of radiation protection in transport; packaging and transport of nuclear fuel cycle material; packaging and transport of non-nuclear fuel cycle material; compliance and quality assurance programming; liability in the transport of radioactive material; and emergency response and preparedness. There is no registration fee for this conference but all individuals and parties interested in attending must forward a completed participation form to the Office of Hazardous Materials Safety point of contact listed above for transmission to the IAEA by June 1, 2003. Individuals interested in submitting a paper for this conference should prepare it in accordance with the IAEA conference guidelines and submit it to both IAEA and the Office of Hazardous Materials Safety point of contact listed above by February 1, 2003. Copies of the official conference announcement, the participation and paper submission forms, and instructions and due dates for completion of these forms may be downloaded from the IAEA Transport Division's Web site at: http://www.iaea.org/ns/rasanet/programme/radiationsafety/transportsafety/2_detailled_info_on_tsu_prog.htm.

Issued in Washington, DC on December 4, 2002.
Robert A. McGuire,
Associate Administrator for Hazardous Materials Safety.

[FR Doc. 02-31595 Filed 12-13-02; 8:45 am]

BILLING CODE 4910-60-P